ENVIRONMENTAL PROTECTION AGENCY

40 CFR Part 52

[EPA-R05-OAR-2009-0704; FRL-9107-2]

Approval and Promulgation of Air Quality Implementation Plans; Indiana; Volatile Organic Compound Emission Control Measures for Lake and Porter Counties in Indiana

AGENCY: Environmental Protection Agency (EPA).

ACTION: Final rule.

SUMMARY: EPA is approving into the Indiana State Implementation Plan (SIP) several volatile organic compound (VOC) control rules. The purpose of these rules is to satisfy Indiana's VOC reasonably available control technology (RACT) requirements for the Lake and Porter County portion of the Chicago-Gary-Lake County, IL-IN, 8-hour ozone nonattainment area. These rules are approvable because they satisfy the control and enforceability requirements of the Clean Air Act (Act), including Indiana's requirement to adopt VOC RACT rules consistent with the Control Technique Guideline (CTG) documents issued by EPA in 2006, 2007 and 2008. EPA proposed these rules for approval on October 16, 2009, and received no comments.

DATES: This final rule is effective on March 26, 2010.

ADDRESSES: EPA has established a docket for this action under Docket ID Nos. EPA-R05-OAR-2009-0704. All documents in the docket are listed on the http://www.regulations.gov Web site. Although listed in the index, some information is not publicly available, i.e., Confidential Business Information (CBI) or other information whose disclosure is restricted by statute. Certain other material, such as copyrighted material, is not placed on the Internet and will be publicly available only in hard copy form. Publicly available docket materials are available either electronically through http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal, Environmental Engineer, at (312) 886-6052 before visiting the Region 5 office.

FOR FURTHER INFORMATION CONTACT: Steven Rosenthal, Environmental Engineer, Criteria Pollutant Section, Air Programs Branch (AR-18J), Environmental Protection Agency, Region 5, 77 West Jackson Boulevard, Chicago, Illinois 60604, (312) 886-6052.

SUPPLEMENTARY INFORMATION: Throughout this document whenever “we,” “us,” or “our” is used, we mean EPA. This supplementary information section is arranged as follows:

I. What Public Comments Were Received on the Proposed Approval and What Is EPA's Response?

II. What Action Is EPA Taking?

III. What Is the Purpose of This Action?

IV. Statutory and Executive Order Reviews

I. What Public Comments Were Received on the Proposed Approval and What Is EPA's Response?

No comments were received.

II. What Action Is EPA Taking?

EPA is approving several new VOC rules into Indiana's SIP because they are consistent with the Act, including its VOC RACT requirements. These include rules for source categories for which the Indiana Department of Environmental Management (IDEM) had previously indicated it had no sources (negative declarations) and rules intended to satisfy CTGs issued in 2006, 2007 and 2008. EPA is also approving a negative declaration for the 2008 CTG “Control Technique Guidelines for Fiberglass Boat Manufacturing Materials” in which IDEM documented that it has no sources subject to this CTG.

III. What Is the Purpose of This Action?

The primary purpose of these rules is to satisfy the requirement in section 182(b) of part D of title I of the Act that VOC RACT rules be adopted for ozone nonattainment areas. Section 182(b)(2)(A) of the Act requires that for nonattainment areas classified as moderate or above, States must revise their SIPs to include RACT for each category of VOC sources covered by a CTG document issued between November 15, 1990, and the date of attainment. The Chicago-Gary-Lake County, IL-IN, is an 8-hour ozone nonattainment area classified as moderate. These rules satisfy the requirement for VOC RACT rules for existing, pre-2006, CTG and major non-CTG source categories which were due on September 15, 2006, as well as the requirement to adopt VOC RACT rules for the CTG documents issued by EPA in 2006, 2007 and 2008.

On March 24, 2008 (73 FR 15416), EPA made a finding that Indiana failed to submit those VOC RACT rules which were due on September 15, 2006, for the Chicago-Gary-Lake County, IL-IN, 8-hour ozone nonattainment area. Indiana subsequently submitted the required VOC RACT rules for the Lake and Porter County portion of that nonattainment area to EPA on September 4, 2009, and December 10, 2009. Failure to submit a complete VOC RACT submittal would have triggered the offset sanction identified in section 179(b)(2) of the Act on September 24, 2009, and would trigger the highway funding sanction in accordance with section 179(b)(1) of the Act on March 24, 2010.

EPA would have been required by section 110(c) of the Act to promulgate a Federal Implementation Plan (FIP) if it had not approved these VOC RACT rules into Indiana's SIP by March 24, 2010. Final approval of these rules ends any obligation for EPA to promulgate a FIP addressing this VOC RACT requirement.

In EPA's October 16, 2009, proposal (74 FR 53193), we presented a detailed legal and technical analysis of the State's submission. The reader is referred to that notice for additional background on the submission and the bases for EPA's approval.

IV. Statutory and Executive Order Reviews

Under the Act, the Administrator is required to approve a SIP submission that complies with the provisions of the Act and applicable Federal regulations. 42 U.S.C. 7410(k); 40 CFR 52.02(a). Thus, in reviewing SIP submissions, EPA's role is to approve State choices, provided that they meet the criteria of the Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Act, petitions for judicial review of this action must be filed in the United States Court of Appeals for the appropriate circuit by April 26, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: January 14, 2010.
Walter W. Kovalick Jr.,
Acting Regional Administrator, Region 5.

40 CFR part 52 is amended as follows:

PART 52—[AMENDED]

1. The authority citation for part 52 continues to read as follows:

Authority: 42 U.S.C. 7401 et seq.

Subpart P—Indiana

2. Section 52.770 is amended by adding paragraph (c)(193) to read as follows:

§ 52.770 Identification of plan.

* * * * *

(c) * * *

(193) On December 10, 2009, the Indiana Department of Environmental Management submitted several volatile organic compound rules for approval into the Indiana State Implementation Plan for the Lake and Porter County portion of the Chicago-Gary-Lake County, IL-IN, 8-hour ozone nonattainment area. This includes both revisions to existing rules and also new rules. Also submitted were subsequent technical corrections to typographical, clerical, or spelling errors for some of these rules.

(i) Incorporation by reference.

(A) Indiana Administrative Code Title 326: Air Pollution Control Board, Article 8: Volatile Organic Compound Rules, Rule 1: General provisions, Section 0.5: Definitions, Section 2: Compliance Methods, and Section 4: Testing procedures, filed with the Publisher of the Indiana Register on November 3, 2009, and became effective on December 3, 2009. Published in the Indiana Register on December 2, 2009 (DIN: 20091202-IR-326090220FRA).

(B) Indiana Administrative Code Title 326: Air Pollution Control Board, Article 8: Volatile Organic Compound Rules, Rule 2: Surface Coating Emission Limitations, Section 1: Applicability, Section 2: Automobile and light duty truck coating regulations, Section 5: Paper coating operations, Section 6: Metal furniture coating operations, Section 7: Large appliance coating operations, Section 9: Miscellaneous metal and plastic parts coating operations, and Section 10: Flat wood panels; manufacturing operations, filed with the Publisher of the Indiana Register on November 3, 2009, and became effective on December 3, 2009. Published in the Indiana Register on December 2, 2009 (DIN: 20091202-IR-326090220FRA).

(C) Indiana Administrative Code Title 326: Air Pollution Control Board, Article 8: Volatile Organic Compound Rules, Rule 5: Miscellaneous Operations, Section 5: Graphic arts operations, filed with the Publisher of the Indiana Register on November 3, 2009, and became effective on December 3, 2009. Published in the Indiana Register on December 2, 2009 (DIN: 20091202-IR-326090220FRA).

(D) Indiana Administrative Code Title 326: Air Pollution Control Board, Article 8: Volatile Organic Compound Rules, Rule 16: Offset Lithographic Printing and Letterpress Printing, filed with the Publisher of the Indiana Register on November 3, 2009, and became effective on December 3, 2009. Published in the Indiana Register on December 2, 2009 (DIN: 20091202-IR-326090221FRA).

(E) Indiana Administrative Code Title 326: Air Pollution Control Board, Article 8: Volatile Organic Compound Rules, Rule 17: Industrial Solvent Cleaning Operations, filed with the Publisher of the Indiana Register on November 3, 2009, and became effective on December 3, 2009. Published in the Indiana Register on December 2, 2009 (DIN: 20091202-IR-326090221FRA).

(F) Indiana Administrative Code Title 326: Air Pollution Control Board, Article 8: Volatile Organic Compound Rules, Rule 18: Synthetic Organic Chemical Manufacturing Industry Air Oxidation, Distillation, and Reactor Processes, filed with the Publisher of the Indiana Register on November 3, 2009, and became effective on December 3, 2009. Published in the Indiana Register on December 2, 2009 (DIN: 20091202-IR-326090222FRA).

(G) Indiana Administrative Code Title 326: Air Pollution Control Board, Article 8: Volatile Organic Compound Rules, Rule 19: Control of Volatile Organic Compound Emissions from Process Vents in Batch Operations, filed with the Publisher of the Indiana Register on November 3, 2009, and became effective on December 3, 2009. Published in the Indiana Register on December 2, 2009 (DIN: 20091202-IR-326090222FRA).

(H) Indiana Administrative Code Title 326: Air Pollution Control Board, Article 8: Volatile Organic Compound Rules, Rule 20: Industrial Wastewater, filed with the Publisher of the Indiana Register on November 3, 2009, and became effective on December 3, 2009. Published in the Indiana Register on December 2, 2009 (DIN: 20091202-IR-326090222FRA).

(I) Indiana Administrative Code Title 326: Air Pollution Control Board, Article 8: Volatile Organic Compound Rules, Rule 21: Aerospace Manufacturing and Rework Operations, filed with the Publisher of the Indiana Register on November 3, 2009, and became effective on December 3, 2009. Published in the Indiana Register on December 2, 2009 (DIN: 20091202-IR-326090222FRA).

(J) Indiana Administrative Code Title 326: Air Pollution Control Board, Article 8: Volatile Organic Compound Rules, Rule 22: Miscellaneous Industrial Adhesives, filed with the Publisher of the Indiana Register on November 3, 2009, and became effective on December 3, 2009. Published in the Indiana Register on December 2, 2009 (DIN: 20091202-IR-326090221FRA).

(K) Corrections to Indiana Administrative Code Title 326: Air Pollution Control Board, Article 8: Volatile Organic Compound Rules, Rule 1: General provisions, Section 2: Compliance Methods and Section 4: Testing procedures, filed with the Publisher of the Indiana Register on November 18, 2009, and became effective on January 2, 2010. Published in the Indiana Register on December 16, 2009 (DIN: 20091216-IR-326090220ACA).

(L) Corrections to Indiana Administrative Code Title 326: Air Pollution Control Board, Article 8: Volatile Organic Compound Rules, Rule 2: Surface Coating Emission Limitations, Section 2: Automobile and light duty truck coating operations, filed with the Publisher of the Indiana Register on November 18, 2009, and became effective on January 2, 2010. Published in the Indiana Register on December 16, 2009 (DIN: 20091216-IR-326090220ACA).

(M) Corrections to Indiana Administrative Code Title 326: Air Pollution Control Board, Article 8: Volatile Organic Compound Rules, Rule 16: Offset Lithographic Printing and Letterpress Printing, filed with the Publisher of the Indiana Register on November 18, 2009, and became effective on January 2, 2010. Published in the Indiana Register on December 16, 2009 (DIN: 20091216-IR-326090221ACA).

(N) Corrections to Indiana Administrative Code Title 326: Air Pollution Control Board, Article 8: Volatile Organic Compound Rules, Rule 17: Industrial Solvent Cleaning Operations, filed with the Publisher of the Indiana Register on November 18, 2009, and became effective on January 2, 2010. Published in the Indiana Register on December 16, 2009 (DIN: 20091216-IR-326090221ACA).

(O) Corrections to Indiana Administrative Code Title 326: Air Pollution Control Board, Article 8: Volatile Organic Compound Rules, Rule 18: Synthetic Organic Chemical Manufacturing Industry Air Oxidation, Distillation, and Reactor Processes, filed with the Publisher of the Indiana Register on November 19, 2009, and became effective on January 3, 2010. Published in the Indiana Register on December 16, 2009 (DIN: 20091216-IR-326090222ACA).

(P) Corrections to Indiana Administrative Code Title 326: Air Pollution Control Board, Article 8: Volatile Organic Compound Rules, Rule 19: Control of Volatile Organic Compound Emissions from Process Vents in Batch Operations, filed with the Publisher of the Indiana Register on November 19, 2009, and became effective on January 3, 2010. Published in the Indiana Register on December 16, 2009 (DIN: 20091216-IR-326090222ACA).

(Q) Corrections to Indiana Administrative Code Title 326: Air Pollution Control Board, Article 8: Volatile Organic Compound Rules, Rule 20: Industrial Wastewater, filed with the Publisher of the Indiana Register on November 19, 2009, and became effective on January 3, 2010. Published in the Indiana Register on December 16, 2009 (DIN: 20091216-IR-326090222ACA).

(R) Corrections to Indiana Administrative Code Title 326: Air Pollution Control Board, Article 8: Volatile Organic Compound Rules, Rule 21: Aerospace Manufacturing and Rework Operations, filed with the Publisher of the Indiana Register on November 19, 2009, and became effective on January 3, 2009. Published in the Indiana Register on December 16, 2009 (DIN: 20091216-IR-326090222ACA).

(S) Corrections to Indiana Administrative Code Title 326: Air Pollution Control Board, Article 8: Volatile Organic Compound Rules, Rule 22: Miscellaneous Industrial Adhesives, filed with the Publisher of the Indiana Register on November 18, 2009, and became effective on January 2, 2010. Published in the Indiana Register on December 16, 2009 (DIN: 20091216-IR-326090221ACA).

[FR Doc. 2010-3523 Filed 2-23-10; 8:45 am]

BILLING CODE 6560-50-P